DEPARTMENT OF JUSTICE

Antitrust Division

Proposed Termination of Judgment

Notice is hereby given that defendant Hilton Hotels Corp. (“Hilton”) and Starwood Hotels and Resorts Worldwide Inc. (“Starwood”), a successor in interest to both defendant ITT Sheraton Corporation of America (“Sheraton”) and defendant Western International Hotel Corporation (“Westin”), have filed a motion to terminate the Partial Final Judgment entered in United States v. Greater Portland Convention Association, Inc., et al., Civil No. 70-310, 1971 Trade Cas. (CCH) ¶73,731 (D.Or. 1971) on November 29, 1971 (“Partial Final Judgment”) and the Final Judgment entered in United States v. Greater Portland Convention Association, Inc., et al., Civil No. 70-310, 1973 Trade Cas. (CCH) ¶74,614 (D.Or. 1973) on September 14, 1973 (“Final Judgment”). Notice is also hereby given that the Antitrust Division of the United States Department of Justice (“the Department”), in a stipulation also filed with the Court, has tentatively consented to termination of the Partial Final Judgment and the Final Judgment, but has reserved the right to withdraw its consent pending receipt of public comments.

On May 12, 1970, the United States filed a complaint alleging the defendants had conspired to restrain trade and commerce in the distribution and sale of hotel supplies. Essentially, the complaint charged the defendants with agreeing (i) to assess an amount of money fixed by the hotels to be paid to GPCA as contributions by hotel suppliers, (ii) to give preference in the purchase of hotel supplies to any hotel supplier who did so contribute, and (iii) to curtail purchases from any hotel supplier who failed or refused to contribute money to the GPCA.

Prior to trial, four of the five defendants; Hilton, GPCA, ITT Sheraton, and Cosmopolitan Investment Inc., settled the charges by accepting entry of the Partial Final Judgment on November 29, 1971. The fifth hotel defendant, Westin, was tried by jury from November 30-December 4, 1970. The jury found that Westin had violated § 1 of the Sherman Act, and Westin appealed this decision to the Ninth Circuit. United States v. Hilton Hotels Corporation., et al. 467 F.2d 1000 (9th Cir. 1972) cert. denied, 93 S.Ct. 938 (1973). On September 26, 1972, the Ninth Circuit affirmed. Westin entered into the Final Judgment on September 14, 1973.

The Department has filed with the Court a memorandum setting forth the reasons why the United States believes that termination of the Partial Final Judgment would serve the public interest. Copies of the motion to terminate, the stipulation containing the United States' tentative consent, the United States' memorandum, and all further papers filed with the Court in connection with the motion to terminate will be available for inspection at the Antitrust Documents Group, Antitrust Division, Room 215, 325 7th Street, NW., Washington, DC 20004, on the Web site www.usdoj.gov/atr, and at the Office of the Clerk of the United States District Court for the District of Oregon. Copies of these materials may be obtained from the Antitrust Division upon request and payment of the copying fee set by the Department of Justice regulations.

Interested persons may submit comments regarding the proposed termination of the Partial Final Judgment and the Final Judgment to the United States. Such comments must be received by the Antitrust Division within sixty (60) days and will be filed with the Court by the United States. Comments should be addressed to John R. Read, Chief, Litigation III Section, Antitrust Division, U.S. Department of Justice, 325 7th Street, NW., Suite 300, Washington, DC 20530, (202) 307-0468.

J. Robert Kramer II,
Director of Operations.

[FR Doc. 07-5390 Filed 10-30-07; 8:45 am]

BILLING CODE 4410-11-M